DEPARTMENT OF HOMELAND SECURITY

Coast Guard

[Docket No. USCG-2013-0073]

Merchant Marine Personnel Advisory Committee

AGENCY: Coast Guard, DHS.

ACTION: Notice of Federal Advisory Committee Meeting.

SUMMARY: The Merchant Marine Personnel Advisory Committee (MERPAC) will meet on March 12, 2013 and March 13, 2013 in Houston, TX, to discuss various issues related to the training and fitness of merchant marine personnel. This meeting will be open to the public.

DATES: MERPAC working groups will meet on March 12, 2013, from 8 a.m. until 4 p.m., and the full committee will meet on March 13, 2013, from 8 a.m. until 4 p.m. This meeting may adjourn early if all business is finished.

ADDRESSES: The Committee will meet in the Red Room of the West Gulf Maritime Association (WGMA), 1717 Turning Basin, Suite 200 Houston, Texas 77029. For further information on the location of WGMA, please contact Mr. Niels Lyngso at (713) 715-6443.

For information on facilities or services for individuals with disabilities or to request special assistance, contact Mr. Davis Breyer at 202-372-1445 as soon as possible.

To facilitate public participation, we are inviting public comment on the issues to be considered by the committee and working groups as listed in the “Agenda” section below. Written comments for distribution to committee members and inclusion on MERPAC's Web site must be submitted by February 26, 2013.

Written comments must be identified by Docket No. USCG-2013-0073 and submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal Holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov.

A public oral comment period will be held each day. Speakers are requested to limit their comments to 3 minutes. Please note that the public oral comment period may end before the prescribed ending time indicated following the last call for comments. Contact Davis Breyer at davis.j.breyer@uscg.mil or at at 202-372-1445 no later than February 26, 2013, to register as a speaker. This notice may be viewed in our online docket, USCG-2013-0073, at http://www.regulations.gov.

FOR FURTHER INFORMATION CONTACT: Mr. Davis Breyer, Alternate Designated Federal Officer (ADFO), telephone 202-372-1445, or at davis.j.breyer@uscg.mil.

If you have any questions on viewing or submitting material to the docket, call Renee V. Wright, Program Manager, Docket Operations, telephone 202-366-9826.

SUPPLEMENTARY INFORMATION: Notice of this meeting is given under the Federal Advisory Committee Act, 5 U.S.C. App. (Pub. L. 92-463).

MERPAC is an advisory committee established under the Secretary's authority in section 871 of the Homeland Security Act of 2002, Title 6, United States Code, section 451, and chartered under the provisions of the FACA. The Committee acts solely in an advisory capacity to the Secretary of the Department of Homeland Security (DHS) through the Commandant of the Coast Guard and the Director of Commercial Regulations and Standards on matters relating to personnel in the U.S. merchant marine, including but not limited to training, qualifications, certification, documentation, and fitness standards. The Committee will advise, consult with, and make recommendations reflecting its independent judgment to the Secretary.

Agenda of Meeting

Day 1

The agenda for the March 12, 2013, meeting is as follows:

(1) The full committee will meet briefly to discuss the working groups' business/task statements, which are listed under paragraph 2 (a)-(g) below.

(2) Working groups addressing the following task statements, available for viewing at http://homeport.uscg.mil/merpac will meet to deliberate:

(a) Task Statement 30, Utilizing Military Education, Training and Assessment for STCW (the International Convention on Standards of Training, Certification & Watchkeeping for Seafarers (STCW) (1978), as amended) and U.S. Coast Guard Certifications;

(b) Task Statement 58, Stakeholder Communications during Merchant Mariner Licensing and Documentation Program (MLD) Restructuring and Centralization;

(c) Task Statement 71, Review of USCG Operational Level Examination (3rd Mate/2nd Mate and 3rd/2nd Assistant Engineer) Topics and Questions and Alignment with the STCW Code;

(d) Task Statement 73, Development of Training Guidance for Engineers Serving on Near-Coastal Vessels;

(e) Task Statement 77, Development of Performance Measures (Assessment Criteria);

(f) Task Statement 78, Consideration of the International Labor Organization's Maritime Labour Convention, 2006; and

(g) Task Statement 80, Crew Training Requirements Onboard Natural Gas-Fueled Vessels Other Than Liquefied Natural Gas Carriers.

(3) Public comment period.

(4) Reports of working groups. At the end of the day, the working groups will report to the full committee on what was accomplished in their meetings. The full committee will not take action on these reports on this date. Any official action taken as a result of this working group meeting will be taken on day 2 of the meeting.

(5) Adjournment of meeting.

Day 2

The agenda for the March 13, 2013, Committee meeting is as follows:

(1) Introduction;

(2) Remarks from Coast Guard Leadership;

(3) Roll call of committee members and determination of a quorum;

(4) Designated Federal Officer (DFO) announcements;

(5) Reports from the following working groups;

(a) Task Statement 30, Utilizing Military Education, Training and Assessment for STCW and U.S. Coast Guard Certifications;

(b) Task Statement 58, Stakeholder Communications during MLD Program Restructuring and Centralization;

(c) Task Statement 71, Review of USCG Operational Level Examination (3rd Mate/2nd Mate and 3rd/2nd Assistant Engineer) Topics and Questions and Alignment with the STCW Code;

(d) Task Statement 73, Development of Training Guidance for Engineers Serving on Near-Coastal Vessels;

(e) Task Statement 77, Development of Performance Measures (Assessment Criteria);

(f) Task Statement 78, Consideration of the International Labor Organization's Maritime Labour Convention, 2006; and

(g) Task Statement 80, Crew Training Requirements Onboard Natural Gas-Fueled Vessels Other Than Liquefied Natural Gas Carriers.

(6) Other items for discussion:

(a) Report on National Maritime Center (NMC) activities from NMC Commanding Officer, such as the net processing time it takes for a mariner to receive his or her credential after application submittal;

(b) Report on Mariner Credentialing Program Policy Division activities, such as its current initiatives and projects;

(c) Report on International Maritime Organization (IMO)/International Labor Organization (ILO) issues related to the merchant marine industry;

(d) Report on the implementation of the 2010 amendments to the STCW Convention; and

(e) Briefings about on-going Coast Guard projects related to personnel in the U.S. Merchant Marine, such as proposed Task Statements concerning:

• Training for officers and crewmembers aboard ships operating in polar waters;

• Review of CG-719K (Merchant Mariner Physical Examination Report) & CG-719K/E (Merchant Marine Certification of Fitness for Entry Level Ratings); and

• Development of competency requirements for engineers working on small vessels with high horsepower.

(7) Public comment period/presentations.

(8) Discussion of working group recommendations. The committee will review the information presented on each issue, deliberate on any recommendations presented by the working groups and approve/formulate recommendations for the Department's consideration. Official action on these recommendations may be taken on this date.

(9) Closing remarks/plans for next meeting.

(10) Adjournment of meeting.

Procedural

A copy of all meeting documentation, including the Task Statements, is available at https://homeport.uscg.mil by using these key strokes: Missions; Port and Waterways Safety; Advisory Committees; MERPAC; and then use the event key. Alternatively, you may contact Mr. Breyer as noted above.

Minutes will be available 90 days after this meeting.

Dated: February 11, 2013.
J.G. Lantz,
Director of Commercial Regulations and Standards.

[FR Doc. 2013-03549 Filed 2-14-13; 8:45 am]

BILLING CODE 9110-04-P